NUCLEAR REGULATORY COMMISSION

NRC To Hold Public Meetings on Spent Fuel Shipping Cask Accident Studies

AGENCY: U.S. Nuclear Regulatory Commission.

ACTION: Notice of public meetings on spent nuclear fuel transportation studies.

SUMMARY: The U.S. Nuclear Regulatory Commission (NRC or Commission) is approaching the end of the scoping phase of a study on spent nuclear fuel cask responses to severe transportation accidents (i.e., the Package Performance Study (PPS)). The scoping phase will determine which issues and approaches are to be used for succeeding phases (including planning, conducting, and documenting any analyses or tests). In addition, in March 2000, NRC published the technical report for a related study, NUREG/CR-6672, “Reexamination of Spent Fuel Shipment Risk Estimates,” and a discussion summary paper is available to complement that technical report. To facilitate discussion on these activities, NRC is convening an August public workshop and two public meetings in Nevada, and a September workshop in Rockville, Maryland.

A World Wide Web site has been established for dissemination of information to interested members of the public. Electronic copies of documents related to these studies, and additional information on the public meetings, can be obtained at http://ttd.sandia.gov/nrc/modal.htm. Francis X. Cameron, Special Counsel for Public Liaison, in the Commission's Office of the General Counsel, will be the convener and facilitator for the meetings.

DATES AND ADDRESSES: The meetings are planned as follows:

• Public workshop: August 15, 2000, 9:30 a.m.-4:30 p.m., in the Hawaiian room at the Tropicana Hotel, 3801 Las Vegas Boulevard, Las Vegas, NV;

• Public meeting: August 15, 2000, 7-9 p.m., in the Hawaiian room at the Tropicana Hotel, 3801 Las Vegas Boulevard, Las Vegas, NV;

• Public meeting: August 16, 2000, 7:00-9:00 p.m., at the Mountain View Casino & Bowl, 1750 Pahrump Valley Blvd., Pahrump, NV; and

• Public workshop: September 13, 2000, 9:30 a.m.-3 p.m., in the NRC's Two-White Flint North Auditorium, 11545 Rockville Pike, Rockville, MD.

INFORMATION: Contact Francis X. Cameron, Special Counsel for Public Liaison, Office of the General Counsel, U.S. Nuclear Regulatory Commission, Washington, DC, 20555-0001, Telephone: (301) 415-1642 about any questions on the meetings. Copies of materials related to these meetings can be obtained on-line at http://ttd.sandia.gov/nrc/modal.htm, or from Robert Lewis, NRC, Telephone: (301) 415-8527.

SUPPLEMENTARY INFORMATION: The risk of transporting highly radioactive spent nuclear fuel from nuclear power plants to a centralized storage facility or to an underground repository is an issue that has recently received increased NRC and public attention because of the increase in the number of shipments that will occur if and when such facilities begin operating. Risk to the public from transportation accidents depends on accident rates, number of shipments, and the likely consequences and severity of the accidents. About 1300 shipments of spent nuclear fuel have been made in NRC-certified packages, with an exceptional safety record of no releases from accidents. Despite the previous studies and safety record, several groups have criticized NRC's cask standards and previous studies as being insufficient to adequately demonstrate safety during severe transportation accidents.

NRC previously studied transportation accident risks in the 1980s (e.g., see NUREG/CR-4829, “Shipping Container Response to Severe Highway and Railway Accident Conditions,” and NUREG/BR-0111, “Transporting Spent Fuel, Protection Provided Against Severe Highway and Railroad Accidents,” often called the ‘modal study’). The modal study looked at possible rail and highway accidents and concluded that spent nuclear fuel cask designs would survive nearly all transportation accidents without releasing radioactive material to the environment. Over the next few years NRC will revisit, in the Package Performance Study, the conclusions of the 1987 modal study, to evaluate their continued validity in light of newer cask technologies and approaches. Risk insights obtained using modern analysis techniques, physical testing, and through interaction with stakeholders and the public, will support NRC's ongoing efforts to assure that its regulatory actions maintain safety and are risk-informed and effective. Ongoing public interactions throughout this project will help ensure that public concerns are effectively identified and understood, and that the study design considers these issues. A related study, NUREG/CR-6672, “Reexamination of Spent Fuel Shipment Risk Estimates,” was published in March 2000, and looked at both accident and incident-free risks from a large spent fuel transportation campaign. A discussion summary paper is available to complement the technical report for that study.

NRC is holding two public workshops and two public meetings to focus on these activities, and specifically to discuss stakeholder views and comments on two documents: (1) The Package Performance Study issues and resolution options report, and (2) a discussion summary paper regarding NUREG/CR-6672.

During the morning and afternoon of August 15 in Las Vegas, and on September 13 in Rockville, MD, representatives of the interests affected by the study will discuss their views on the issues in a “workshop” format. The Commission, through the facilitator for the meeting, will attempt to ensure participation by the broad spectrum of interests at the meetings, including citizen and environmental groups, nuclear and transportation industry interests, state, tribal, and local governments, experts from academia, or other agencies. Other members of the public are welcome to attend, and the public will have the opportunity to comment on each of the agenda items slated for discussion. Questions about participation may be directed to the facilitator, Francis X. Cameron.

On the evenings of August 15 in Las Vegas and on August 16 in Pahrump, public meetings will be conducted. At these meetings, the NRC staff will briefly present the NRC's role in ensuring transportation safety and its views regarding the two studies. A moderated discussion will then be held to discuss the study's proposed content or approach. The NRC staff will be available to further discuss issues or public concerns regarding the studies or transportation safety.

The first part of each meeting will be about NUREG/CR-6672 and the discussion paper; the remainder will be to discuss the PPS issues report. NRC is sharing these documents with the public before the public meetings, to obtain timely feedback on their content and to continue the constructive interactions on transportation risk issues that began at workshops and public meetings in 1999. Copies of the documents can be obtained on-line at http://ttd.sandia.gov/nrc/modal.htm, or through the NRC contacts listed above. NRC is particularly interested in views on the discussion paper's usefulness, both as a summary of NUREG/CR-6672 and as a communication about transportation risks. Regarding the PPS issues and resolution options, NRC desires to ensure that comments made at the 1999 public workshops, made in letters, or made through the Web site, have been included and appropriately characterized in this report. NRC will use the discussions on the PPS issues report, to help decide which issues and resolution options will be examined by the next phases of the PPS.

The public workshop and public meetings will have a scope and agenda. However, the agenda format will be sufficiently flexible to allow for the introduction of additional related issues that the participants may wish to raise. The purpose of the meetings is to hear the views of the participants on the issues and options to resolve the issues for the forthcoming study. The agenda for the meetings is set forth below.

Public Workshop Agenda—Spent Nuclear Fuel Transportation Studies

August 15, 2000 (Las Vegas, NV) and September 13, 2000 (Rockville, MD)

9:00 a.m.—Open House

9:30 a.m.-10:00 a.m.—Call to Order; Introductions and Ground Rules (Francis X. Cameron, NRC, Facilitator, Susan F. Shankman, Spent Fuel Project Office, NRC)

10:00 a.m.-11:30 a.m.—“Reexamination of Spent Fuel Shipment Risk Estimates,” (NUREG/CR-6672) and the associated “Discussion Paper”

Participant Discussion

11:30 a.m.-12:45 p.m.—Break for Lunch

12:45 p.m.-1:15 p.m.—Participant Discussion (continued)

1:15 p.m.-2:30 p.m.—Package Performance Study Issues Report

Project Overview and Public Interactions (Robert Lewis, NRC)

Presentation of Issues Report and Options for Study

Participant Discussion

2:30 p.m.-2:45 p.m.—Break

2:45 p.m.-3:45 p.m.—Package Performance Study Issues Report

Participant Discussion (continued)

3:45 p.m.-4:15 p.m.—Breakout Discussions with NRC Staff

4:15 p.m.-4:30 p.m.—Wrap-up

4:30 p.m.—Adjourn

Public Meeting Agenda—Spent Nuclear Fuel Transportation Studies

August 15, 2000 (Las Vegas, NV) and August 16, 2000 (Pahrump, NV) Seminar, 7:00 P.M.-9:00 P.M.

7:00 p.m.-7:30 p.m.—Welcome and Overview (Francis X. Cameron, NRC, facilitator)

NRC Role and Regulatory Framework for Transportation

NRC Spent Fuel Transportation Studies

7:30 p.m.-8:15 p.m.—Facilitated Discussion on “Reexamination of Spent Fuel Shipment Risk Estimates,” (NUREG/CR-6672) and the associated “Discussion Paper” (Francis X. Cameron, NRC, facilitator)

An opportunity for the public to discuss this project with the NRC staff.

8:15 p.m.-9:00 p.m.—Facilitated Discussion on “Package Performance Study Issues Report” (Francis X. Cameron, NRC, facilitator)

An opportunity for the public to discuss this project with the NRC staff.

9:00 p.m.—Wrap-up and Adjourn

Dated at Rockville, Maryland, this 17th day of July 2000.
For the Nuclear Regulatory Commission.
E. William Brach,
Director, Spent Fuel Project Office, Office of Nuclear Material Safety and Safeguards.

[FR Doc. 00-18657 Filed 7-21-00; 8:45 am]

BILLING CODE 7590-01-P